FEDERAL COMMUNICATIONS COMMISSION

47 CFR Part 73

[DA 02-1373; MM Docket No. 02-69; RM-10385]

Radio Broadcasting Services; Jennings and Iowa, LA

AGENCY: Federal Communications Commission.

ACTION: Proposed rule; withdrawal

SUMMARY: This document dismisses a petition for rule making filed by Apex Broadcasting, Inc. requesting the reallotment of Channel 225C2 from Jennings, Louisiana to Iowa, Louisiana and modification of the authorization for Station KJEF-FM accordingly. See 67 FR 17670, April 11, 2002. Apex Broadcasting, Inc. withdrew its interest in the allotment of Channel 225C2 at Iowa, Louisiana. With this action, this proceeding is terminated.

FOR FURTHER INFORMATION CONTACT: Kathleen Scheuerle, Media Bureau, (202) 418-2180.

SUPPLEMENTARY INFORMATION: This is a summary of the Commission's Report and Order, MM Docket No. 02-69, adopted June 5, 2002, and released June 14, 2002. The full text of this Commission decision is available for public inspection and copying during regular business hours at the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via e-mail qualexint@aol.com.

Federal Communications Commission.
John A. Karousos,
Assistant Chief, Audio Division, Office of Broadcast License Policy, Media Bureau.

[FR Doc. 02-15667 Filed 6-20-02; 8:45 am]

BILLING CODE 6712-01-P